SECURITIES AND EXCHANGE COMMISSION

[Release No. 34-92532; File Nos. SR-NYSE-2021-05, SR-NYSENAT-2021-01, SR-NYSEAMER-2021-04, SR-NYSECHX-2021-01]

Self-Regulatory Organizations; New York Stock Exchange LLC; NYSE National, Inc.; NYSE American LLC; NYSE Chicago, Inc.; Notice of Designation of a Longer Period for Commission Action on Proceedings To Determine Whether To Approve or Disapprove a Proposed Rule Change To Amend Each of the Exchange's Co-Location Services and Fee Schedule To Add Two Partial Cabinet Solution Bundles

July 30, 2021.

On January 19, 2021, New York Stock Exchange LLC, NYSE National, Inc., NYSE American LLC, and NYSE Chicago, Inc. each filed with the Securities and Exchange Commission (“Commission”), pursuant to Section 19(b)(1) of the Securities Exchange Act of 1934 (“Act”) ¹ and Rule 19b-4 thereunder,² a proposed rule change to amend the each of the Exchanges' co-location rules to add two partial cabinet solution bundles.³ The proposed rule changes were published for comment in the Federal Register on February 5, 2021.⁴ On March 18, 2021, the Commission extended the time period within which to approve each of the proposed rule changes, disapprove the proposed rule changes, or institute proceedings to determine whether to approve or disapprove the proposed rule changes, to May 6, 2021.⁵ On May 6, 2021, the Commission instituted proceedings to determine whether to approve or disapprove the proposed rule change.⁶ The Commission received a comment letter on the proposal from the Exchanges.⁷

¹ 15 U.S.C. 78s(b)(1).

² 17 CFR 240.19b-4.

³ The New York Stock Exchange LLC, NYSE National, Inc., NYSE Arca, Inc., NYSE American LLC, and NYSE Chicago, Inc. are collectively referred to herein as “NYSE” or the “Exchanges.”

⁴ See Securities Exchange Act Release No. 91034 (February 1, 2021), 86 FR 8443 (SR-NYSE-2021-05); 91037 (February 1, 2021), 86 FR 8424 (SR-NYSENAT-2021-01); 91035 (February 1, 2021), 86 FR 8449 (SR-NYSEAMER-2021-04); 91036 (February 1, 2021), 86 FR 8440 (SR-NYSECHX-2021-01).

⁵ See Securities Exchange Act Release Nos. 91357, 86 FR 15732 (March 24, 2021) (SR-NYSE-2021-05); 91363, 86 FR 15763 (March 24, 2021) (SR-NYSENAT-2021-01); 91358, 86 FR 15732 (March 24, 2021) (SR-NYSEAMER-2021-04); 91362, 86 FR 15765 (March 24, 2021) (SR-NYSECHX-2021-01).

⁶ See Securities Exchange Act Release No. 91785 (May 6, 2021), 86 FR 26082 (May 12, 2021) (SR-NYSE-2021-05, SR-NYSENAT-2021-01, SR-NYSEArca-2021-07, SR-NYSEAMER-2021-04, NYSECHX-2021-01).

⁷ See, respectively, letter dated July 6, 2021 from Elizabeth K. King, Chief Regulatory Officer, ICE, General Counsel and Corporate Secretary, NYSE to Vanessa Countryman, Secretary, Commission. All comments received by the Commission on the proposed rule change are available on the Commission's website at: https://www.sec.gov/comments/sr-nyse-2021-05/srnyse202105.htm. NYSE filed comment letters on behalf of all of the Exchanges.

Section 19(b)(2) of the Act ⁸ provides that, after initiating proceedings, the Commission shall issue an order approving or disapproving the proposed rule change not later than 180 days after the date of publication of notice of the filing of the proposed rule change. The Commission may extend the period for issuing an order approving or disapproving the proposed rule change, however, by not more than 60 days if the Commission determines that a longer period is appropriate and publishes the reasons for such determination. The proposed rule changes were published for comment in the Federal Register on February 5, 2021.⁹ The 180th day after publication of the Notices is August 4, 2021. The Commission is extending the time period for approving or disapproving the proposal for an additional 60 days.

⁸ 15 U.S.C. 78s(b)(2).

⁹ See supra note 4.

The Commission finds that it is appropriate to designate a longer period within which to issue an order approving or disapproving the proposed rule change so that it has sufficient time to consider the proposed rule changes along with the comment received. Accordingly, the Commission, pursuant to Section 19(b)(2) of the Act,¹⁰ designates October 3, 2021 as the date by which the Commission should either approve or disapprove the proposed rule change (File Nos. SR-NYSE-2021-05, SR-NYSENAT-2021-01, SR-NYSEAMER-2021-04, NYSECHX-2021-01).

¹⁰ 15 U.S.C. 78s(b)(2).

For the Commission, by the Division of Trading and Markets, pursuant to delegated authority.¹¹
¹¹ 17 CFR 200.30-3(a)(12).
J. Matthew DeLesDernier.
Assistant Secretary.

[FR Doc. 2021-16675 Filed 8-4-21; 8:45 am]

BILLING CODE 8011-01-P